DEPARTMENT OF ENERGY

Federal Energy Regulatory Commission

Combined Notice of Filings #1

Take notice that the Commission received the following exempt wholesale generator filings:

Docket Numbers: EG21-204-000.

Applicants: Minco Wind Energy III, LLC.

Description: Notice of Self-Certification of Exempt Wholesale Generator Status of Minco Wind Energy III, LLC.

Filed Date: 7/26/21.

Accession Number: 20210726-5130.

Comments Due: 5 p.m. ET 8/16/21.

Docket Numbers: EG21-205-000.

Applicants: Crossett Power Management LLC.

Description: Notice of Self-Certification of Exempt Wholesale Generator of Crossett Power Management LLC.

Filed Date: 7/26/21.

Accession Number: 20210726-5143.

Comments Due: 5 p.m. ET 8/16/21.

Take notice that the Commission received the following electric rate filings:

Docket Numbers: ER10-2127-020.

Applicants: Invenergy TN LLC.

Description: Supplement to December 31, 2020 Triennial Market Power Analysis for the Southeast Region of Invenergy TN LLC.

Filed Date: 7/21/21.

Accession Number: 20210721-5191.

Comments Due: 5 p.m. ET 8/11/21.

Docket Numbers: ER16-1720-016.

Applicants: Invenergy Energy Management LLC.

Description: Supplement to December 31, 2020 Triennial Market Power Analysis for the Southeast Region of Invenergy Energy Management LL.

Filed Date: 7/21/21.

Accession Number: 20210721-5190.

Comments Due: 5 p.m. ET 8/11/21.

Docket Numbers: ER20-2125-001.

Applicants: WGP Redwood Holdings, LLC.

Description: Compliance filing: Compliance Filing Re: Order Accepting MBR Tariff (ER20-2125-000) to be effective 7/14/2021.

Filed Date: 7/26/21.

Accession Number: 20210726-5061.

Comments Due: 5 p.m. ET 8/16/21.

Docket Numbers: ER21-1006-001.

Applicants: El Paso Electric Company.

Description: Tariff Amendment: Service Agreement No. 347, Nonconforming LGIA with Hecate to be effective 1/7/2021.

Filed Date: 7/26/21.

Accession Number: 20210726-5076.

Comments Due: 5 p.m. ET 8/16/21.

Docket Numbers: ER21-1007-001.

Applicants: El Paso Electric Company.

Description: Tariff Amendment: Service Agreement No. 348, Nonconforming LGIA with Hecate 2 to be effective 1/7/2021.

Filed Date: 7/26/21.

Accession Number: 20210726-5081.

Comments Due: 5 p.m. ET 8/16/21.

Docket Numbers: ER21-1973-001.

Applicants: PacifiCorp.

Description: Compliance filing: BPA NITSA (Clark PUD) Rev 3 Compliance to be effective 5/1/2021.

Filed Date: 7/26/21.

Accession Number: 20210726-5100.

Comments Due: 5 p.m. ET 8/16/21.

Docket Numbers: ER21-2092-001.

Applicants: Pacific Gas and Electric Company.

Description: Tariff Amendment: Amendment to Berry Petroleum Tannehill Cogen SGIA (SA 413) to be effective 6/8/2021.

Filed Date: 7/26/21.

Accession Number: 20210726-5079.

Comments Due: 5 p.m. ET 8/16/21.

Docket Numbers: ER21-2093-001.

Applicants: Pacific Gas and Electric Company.

Description: Tariff Amendment: Amendment to Berry Petroleum University Cogen LGIA (SA 414) to be effective 6/8/2021.

Filed Date: 7/26/21.

Accession Number: 20210726-5080.

Comments Due: 5 p.m. ET 8/16/21.

Docket Numbers: ER21-2498-000.

Applicants: Versant Power.

Description: Compliance filing: Order No. 676-I Compliance Filing and Request for Waivers to be effective 10/27/2021.

Filed Date: 7/23/21.

Accession Number: 20210723-5184.

Comments Due: 5 p.m. ET 8/13/21.

Docket Numbers: ER21-2499-000.

Applicants: Duke Energy Progress, LLC, Duke Energy Florida, LLC, Duke Energy Carolinas, LLC.

Description: Compliance filing: Duke Energy—Order 676-I Compliance Filing to be effective 12/31/9998.

Filed Date: 7/23/21.

Accession Number: 20210723-5192.

Comments Due: 5 p.m. ET 8/13/21.

Docket Numbers: ER21-2501-000.

Applicants: PJM Interconnection, L.L.C.

Description: § 205(d) Rate Filing: Amendment to WMPA, Service Agreement No. 4794; Queue No. AC1-116 to be effective 8/22/2017.

Filed Date: 7/26/21.

Accession Number: 20210726-5036.

Comments Due: 5 p.m. ET 8/16/21.

Docket Numbers: ER21-2502-000.

Applicants: Performance Materials NA, Inc.

Description: Compliance filing: Revisions to Market-Based Rate Tariff to be effective 9/24/2021.

Filed Date: 7/26/21.

Accession Number: 20210726-5039.

Comments Due: 5 p.m. ET 8/16/21.

Docket Numbers: ER21-2503-000.

Applicants: Alabama Power Company.

Description: § 205(d) Rate Filing: Hobnail Solar LGIA Amendment Filing to be effective 7/12/2021.

Filed Date: 7/26/21.

Accession Number: 20210726-5086.

Comments Due: 5 p.m. ET 8/16/21.

Docket Numbers: ER21-2504-000.

Applicants: Alabama Power Company.

Description: Tariff Cancellation: Randolph County Solar LGIA Termination Filing to be effective 7/26/2021.

Filed Date: 7/26/21.

Accession Number: 20210726-5089.

Comments Due: 5 p.m. ET 8/16/21.

Docket Numbers: ER21-2505-000.

Applicants: Basin Electric Power Cooperative.

Description: Tariff Cancellation: Basin Electric Notice of Cancellation for Service Agreement No. 32 to be effective 2/24/2021.

Filed Date: 7/26/21.

Accession Number: 20210726-5116.

Comments Due: 5 p.m. ET 8/16/21.

Docket Numbers: ER21-2506-000.

Applicants: PJM Interconnection, L.L.C.

Description: § 205(d) Rate Filing: Original WMPA, Service Agreement No. 6111; Queue No. AD1-016 to be effective 6/25/2021.

Filed Date: 7/26/21.

Accession Number: 20210726-5126.

Comments Due: 5 p.m. ET 8/16/21.

Docket Numbers: ER21-2507-000.

Applicants: Basin Electric Power Cooperative.

Description: § 205(d) Rate Filing: Submission of Amendment to Service Agreement No. 100 to be effective 5/11/2021.

Filed Date: 7/26/21.

Accession Number: 20210726-5138.

Comments Due: 5 p.m. ET 8/16/21.

Docket Numbers: ER21-2508-000.

Applicants: PJM Interconnection, L.L.C.

Description: § 205(d) Rate Filing: Original WMPA, Service Agreement No. 6114; Queue No. AD1-129 to be effective 6/25/2021.

Filed Date: 7/26/21.

Accession Number: 20210726-5140.

Comments Due: 5 p.m. ET 8/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2021.
Debbie-Anne A. Reese,
Deputy Secretary.

[FR Doc. 2021-16270 Filed 7-29-21; 8:45 am]

BILLING CODE 6717-01-P